DEPARTMENT OF THE INTERIOR

Bureau of Land Management

DEPARTMENT OF AGRICULTURE

Forest Service

[WO-310-1310-02-PB 24 1A]

Extension of Approved Information Collection; OMB Control No. 1004-0162

AGENCY: Bureau of Land Management, Interior and Forest Service Agriculture.

ACTION: Notice and request for comments.

SUMMARY: In accordance with the Paperwork Reduction Act of 1995, the Bureau of Land Management (BLM) requests the Office of Management and Budget (OMB) to extend an existing approval to collect information from entities who conduct geophysical operations on public lands.

DATES: You must submit your comments to BLM at the address below on or before September 7, 2004. BLM will not necessarily consider any comments received after the above date.

ADDRESSES: You may mail comments to: Bureau of Land Management, (WO-630), Eastern States Office, 7450 Boston Blvd., Springfield, Virginia 22153.

You may send comments via Internet to: WOComments@blm.gov. Please include (attn: 1004-0162) and your name and address with your comments.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Barbara Gamble, Fluid Minerals Group, at (202) 452-0338 (Commercial or FTS). Persons who use a telecommunications device for the deaf (TDD) may call the Federal Information Relay Service (FIRS) on 1-800-877-8330, 24 hours a day, seven days a week, to contact Ms. Gamble.

SUPPLEMENTARY INFORMATION: 5 CFR 1320.12(a), requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The Mineral Leasing Act of 1920 (MLA) (30 U.S.C. 181 et seq.), gives the Secretary of the Interior responsibility for oil and gas leasing on approximately 570 million acres of Federal mineral estate. The MLA authorizes the Secretary and the Secretary of Agriculture to permit lessees, exploration companies, and independent exploration operators to conduct geophysical exploration on or off leases. The Act of August 7, 1947 (Mineral Leasing Act of Acquired Lands), authorizes the Secretary of the Interior to lease lands acquired by the United States (30 U.S.C. 341-359); and the Federal Onshore Oil and Gas Leasing Reform Act of December 22, 1987, authorizes the Secretary of the Interior to lease National Forest System (NFS) lands with Forest Service (FS) consent. On NFS lands, the Secretary of Agriculture is authorized to regulate all surface-disturbing activities which take place on a lease.

43 CFR Group 3150 establishes procedures for BLM to issue authorizations to conduct oil and gas geophysical exploration operations on public lands. 36 CFR part 228 subpart E, and 36 CFR 251 subpart A and subpart B establish procedures for the FS to authorize geophysical operations on FS lands.

The BLM and FS need the information requested on the Notice of Intent to process applications for geophysical exploration operations on public lands and to manage environmental compliance requirements in accordance with the laws, regulations, and land use plans. The BLM and FS use the information to determine if operators will conduct geophysical operations in a manner consistent with the regulations, local land use plans, and stipulations. The BLM and FS need the information requested on the Notice of Completion to determine whether rehabilitation of the lands is satisfactory or whether additional rehabilitation is necessary. You may submit the forms in person or by mail. We need the company name, address, and telephone number to identify the person/entity conducting operations. BLM will assign a Case File Number to track each specific operation. We require the legal land description to determine the location of the involved public lands. Additional information that we request includes the type and size of the proposed activity, location of the proposed operation, equipment you plan to use, operating procedures, and timing of the operation.

Applicants must submit these forms to allow BLM and FS to determine who is conducting geophysical operations on public lands. An interagency BLM/FS team revised the respective forms to streamline and improve the process for both the Federal government and its customers. Combining the BLM and FS individual forms into a single BLM/FS form will ensure consistent management of the geophysical operations on public lands and will better serve the public. The forms are:

1. Notice of Intent and Request for Authorization to Conduct Geophysical Exploration Operations (NOI/RFA), BLM SF 3110-4/FS SF 2800-16; and

2. Notice of Completion of Geophysical Exploration Operations, BLM SF 3110-5/FS SF 2800-16a.

Based on experience administering onshore oil and gas geophysical exploration operations, BLM and FS estimate the public reporting burden for completing the Notice of Intent is one hour, and for completing the Notice of Completion is 20 minutes. The information we require is clearly outlined on the forms and in the terms and conditions. The respondents already maintain the information for their own recordkeeping purposes and will need only to transfer or attach it to the forms. BLM and FS estimate that it receives approximately 625 Notices of Intent (600 to BLM and 25 to FS), 625 Notices of Completion, and 3 nonform data items annually (Alaska only, if off lease), with a total annual burden of 836 hours. Respondents vary from small business to major corporations.

Any member of the public may request and obtain, without charge, a copy of the BLM Form 3110-4/FS Form 2800-16 or BLM Form 3110-5/FS Form 2800-16a by contacting the person identified under FOR FURTHER INFORMATION CONTACT.

BLM will summarize all responses to this notice and include them in the request for OMB approval. All comments will become a matter of public record.

Dated: June 25, 2004.
Michael H. Schwartz,
Bureau of Land Management, Information Collection Conference Officer.
Dated: June 28, 2004.
Bruce Ramsey,
Director, Minerals and Geology Management, USDA, Forest Service.

[FR Doc. 04-15140 Filed 7-2-04; 8:45 am]

BILLING CODE 4310-34-M